DEPARTMENT OF DEFENSE

Department of the Air Force

[Docket ID: USAF-2022-HQ-0005]

Submission for OMB Review; Comment Request

AGENCY: Department of the Air Force, Department of Defense (DoD).

ACTION: 30-Day information collection notice.

SUMMARY: The Department of Defense has submitted to OMB for clearance the following proposal for collection of information under the provisions of the Paperwork Reduction Act.

DATES: Consideration will be given to all comments received by August 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Emergency Mass Notification System; OMB Control Number 0701-0162.

Type of Request: Extension.

Number of Respondents: 1,000,000.

Responses per Respondent: 1.

Annual Responses: 1,000,000.

Average Burden per Response: 1 minute.

Annual Burden Hours: 16,667 hours.

Needs and Uses: The Air Force Life Cycle Management Center Command, Control, Communications, Intelligence, and Networks Directorate provides standardized enterprise capabilities across the entire U.S Air Force (AF) in accordance with AF Instruction 10-206, Operational Reporting, as authorized by 5 U.S.C. 7902—Safety Programs and 10 U.S.C. 9013—Secretary of the Air Force. This effort will implement and sustain a cloud based, enterprise-wide AF solution for the Emergency Mass Notification System (EMNS). The AF requires a single notification system to send alert notifications to assigned military personnel, family members, and contractors quickly and effectively in an emergent event. The EMNS will increase the situational awareness for Airmen families and contractors, regardless of their physical location, to enable protective measures when tragic events or emergencies occur. This effort will address the gaps in the notification process.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 24, 2022.
Aaron T. Siegel,
Alternate OSD Federal Register Liaison Officer, Department of Defense.

[FR Doc. 2022-13978 Filed 6-29-22; 8:45 am]

BILLING CODE 5001-06-P